DEPARTMENT OF COMMERCE

Foreign-Trade Zones Board

[B-43-2022]

Foreign-Trade Zone (FTZ) 27—Boston, Massachusetts; Authorization of Production Activity, Wyeth Pharmaceuticals, LLC (Shingles and Flu Vaccines), Andover, Massachusetts

On September 8, 2022, Wyeth Pharmaceuticals, LLC (Wyeth) submitted a notification of proposed production activity to the FTZ Board for its facility within Subzone 27R, in Andover, Massachusetts.

The notification was processed in accordance with the regulations of the FTZ Board (15 CFR part 400), including notice in the Federal Register inviting public comment (87 FR 56928, September 16, 2022). On January 6, 2023, the applicant was notified of the FTZ Board's decision that no further review of the activity is warranted at this time. The production activity described in the notification was authorized, subject to the FTZ Act and the FTZ Board's regulations, including Section 400.14.

Dated: January 6, 2023.
Elizabeth Whiteman,
Acting Executive Secretary.

[FR Doc. 2023-00355 Filed 1-10-23; 8:45 am]

BILLING CODE 3510-DS-P